DEPARTMENT OF VETERANS AFFAIRS

[OMB Control No. 2900-0659]

Agency Information Collection Activity Under OMB Review: Statement in Support of Claimed Mental Health Disorder(s) Due to an In-Service Traumatic Event(s)

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0659.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0659” in any correspondence.

SUPPLEMENTARY INFORMATION:

Authority: 38 U.S.C. 5103(a), 38 U.S.C. 5107(a), Public Law 117-271, Public Law 117-303, 38 CFR 3.304(f).

Title: Statement in Support of Claimed Mental Health Disorder(s) Due to an In-Service Traumatic Event(s) (VA Form 21-0781).

OMB Control Number: 2900-0659.

Type of Review: Revision of a currently approved collection.

Abstract: VA Form 21-0781 is primarily used to gather certain information about in-service stressors, so VA may assist claimants in establishing the occurrence of the claimed stressor(s). To establish a grant of service-connected compensation, there must be evidence to support the in-service stressor(s) reported by the veteran. This form is voluntary, however, without this information, VA cannot thoroughly assist certain claimants with the research of military records and other sources of information for supporting evidence about the in-service stressor(s). The form requests information that is necessary to conduct meaningful research of evidence to help substantiate the claim.

This revision combines the two previously approved forms under this collection number into one form: resulting in the discontinuance of the previously approved VA Form 21-0781a, a new title, and a total reduction overall of burden on the claimant.

An agency may not conduct or sponsor, and a person is not required to respond to a collection of information unless it displays a currently valid OMB control number. The Federal Register Notice with a 60-day comment period soliciting comments on this collection of information was published at 88 FR 86220 on December 12, 2023.

Affected Public: Individuals or Households.

Estimated Annual Burden: 87,436.

Estimated Average Burden per Respondent: 45 minutes.

Frequency of Response: One time.

Estimated Number of Respondents: 116, 581.

By direction of the Secretary.
Dorothy Glasgow,
VA PRA Clearance Officer, (Alt), Office of Enterprise and Integration, Data Governance Analytics, Department of Veterans Affairs.

[FR Doc. 2024-03148 Filed 2-14-24; 8:45 am]

BILLING CODE 8320-01-P